DEPARTMENT OF ENERGY

Federal Energy Regulatory Commission

[Docket No. CP04-424-000]

Petal Gas Storage, LLC; Notice of Intent To Prepare an Environmental Assessment for the Proposed Heidelberg Compressor Station Uprate Project and Request for Comments on Environmental Issues

November 1, 2004.

The staff of the Federal Energy Regulatory Commission (FERC or Commission) will prepare an environmental assessment (EA) that will discuss the environmental impacts of the Heidelberg Compressor Station Uprate Project involving increased compression by Petal Gas Storage, LLC (Petal) in Jasper County, Mississippi.¹ The new facilities would consist of the uprate and modification of two compressor units to provide additional compression at Petal's existing compressor station, providing a total of 442 additional horsepower (hp). This EA will be used by the Commission in its decision-making process to determine whether the project is in the public convenience and necessity.

¹ Petal's application was filed with the Commission under section 7 of the Natural Gas Act and part 157 of the Commission's regulations.

A fact sheet prepared by the FERC entitled “An Interstate Natural Gas Facility On My Land? What Do I Need To Know?” was attached to the project notice Petal provided to landowners. This fact sheet addresses a number of typically asked questions, including the use of eminent domain and how to participate in the Commission's proceedings. It is available for viewing on the FERC Internet Web site (http://www.ferc.gov).

Summary of the Proposed Project

Petal seeks authority to increase the horsepower of the compressor units at its Heidelberg Compressor Station in Jasper County, Mississippi. Petal wishes to increase the withdrawing and delivering of natural gas to downstream pipeline interconnects from 0.7 billion cubic feet per day (Bcf/day) to 1.3 Bcf/day by uprating its existing compressors from 9,000 hp to 9,442 hp. No additional compressor units would be necessary.

The location of the project facilities is shown in appendix 1.²

² The appendices referenced in this notice are not being printed in the Federal Register. Copies of all appendices, other than appendix 1 (maps), are available on the Commission's Web site at the “eLibrary” link or from the Commission's Public Reference Room and Files Maintenance Branch, 888 First Street, NE., Washington, DC 20426, or call (202) 502-8371. For instructions on connecting to eLibrary refer to the last page of this notice. Copies of the appendices were sent to all those receiving this notice in the mail.

Land Requirements for Construction

No ground disturbance would occur. The two compressors to be uprated are already in place on Petal's property, within its compressor building.

The EA Process

The National Environmental Policy Act (NEPA) requires the Commission to take into account the environmental impacts that could result from an action whenever it considers the issuance of a Certificate of Public Convenience and Necessity. NEPA also requires us³ to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

³ “We,” “us,” and “our” refer to the environmental staff of the Office of Energy Projects (OEP).

In the EA we will discuss air quality and noise impacts that could occur as a result of the construction and operation of the proposed project under these general headings. We will not discuss impact to the following resource areas since they are not present in the project area, or would not be affected by the proposed facilities:

• Surface water resources, fisheries, and wetlands.

• Geology, soils, and groundwater.

• Land use and visual quality.

• Cultural resources.

• Socioeconomics.

• Vegetation and wildlife (including threatened and endangered species).

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

Currently Identified Environmental Issues

We have already identified one issue (noise impacts on nearby residents) that we think deserves attention based on a preliminary review of the proposed facilities and the environmental information provided by Petal. Issues we consider may change based on your comments and our analysis.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP04-424-000.

• Mail your comments so that they will be received in Washington, DC on or before December 1, 2004.

Please note that the Commission strongly encourages electronic filing of any comments or interventions or protests to this proceeding. See 18 CFR 385.2001(a)(1)(iii) and the instructions on the Commission's Web site at http://www.ferc.gov under the “e-Filing” link and the link to the User's Guide. Prepare your submission in the same manner as you would if filing on paper and save it to a file on your hard drive. Before you can file comments, you will need to create an account by clicking on “login to file” and then “New User Account.” You will be asked to select the type of filing you are making. This filing is considered a “comment on filing.”

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor you must file a motion to intervene according to Rule 214 of the Commission's Rules of Practice and Procedure (18 CFR 385.214, see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners whose property may be used temporarily for project purposes or who own homes within distances defined in the Commission's regulations of certain aboveground facilities.

Availability of Additional Information

Additional information about the project is available from the Commission's Office of External Affairs, at 1-866-208-FERC or on the FERC Internet Web site (http://www.ferc.gov) using the eLibrary link. Click on the eLibrary link, click on “General Search” and enter the docket number excluding the last three digits in the docket number field. Be sure you have selected an appropriate date range. For assistance with eLibrary, the eLibrary helpline can be reached at 1-866-208-3676, TTY (202) 502-8659, or at FercOnlineSupport@ferc.gov. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Linda Mitry,
Deputy Secretary.

[FR Doc. E4-3044 Filed 11-5-04; 8:45 am]

BILLING CODE 6717-01-P